DEPARTMENT OF TRANSPORTATION

Federal Aviation Administration

Notice of Availability of Proposed Voluntary Agreement for Golden Gate National Recreation Area, San Francisco Maritime National Historical Park, Point Reyes National Seashore, and Muir Woods National Monument

AGENCY: Federal Aviation Administration (FAA), DOT.

ACTION: Notice of availability.

SUMMARY: The FAA, in cooperation with the National Park Service (NPS), has initiated the development of a voluntary agreement pursuant to the National Parks Air Tour Management Act of 2000 (the Act) and its implementing regulations. The Act allows the FAA and NPS to enter into voluntary agreements with commercial air tour operators. A voluntary agreement manages commercial air tour operations over a national park by establishing conditions for the conduct of the commercial air tour operations. Implementation of a voluntary agreement helps protect park resources and the visitor experience without compromising aviation safety or the air traffic control system. This notice announces the public availability of the proposed voluntary agreement for Golden Gate National Recreation Area, San Francisco Maritime National Historical Park, Point Reyes National Seashore, and Muir Woods National Monument.

DATES: Comments are due by 10:59 p.m. PDT January 2, 2026.

ADDRESSES: Comments will be received on the NPS Planning, Environment and Public Comment System (PEPC) website. The PEPC website address is: https://parkplanning.nps.gov/bayareaairtours25.

FOR FURTHER INFORMATION CONTACT: Sandi Fox, telephone: (202) 267-0928, email: sandra.y.fox@faa.gov.

SUPPLEMENTARY INFORMATION: The FAA is issuing this notice pursuant to the National Parks Air Tour Management Act of 2000 (Pub. L. 106-181 (https://www.govinfo.gov/link/plaw/106/public/181?link-type=html)) and its implementing regulations contained in title 14, Code of Federal Regulations, part 136, subpart B, National Parks Air Tour Management. The Act requires that commercial air tour operators conducting or intending to conduct commercial air tours over a unit of the National Park system to apply to the FAA for operating authority before engaging in that activity. The Act further requires the FAA and the NPS to establish an air tour management plan (ATMP) for each National Park System unit for which one or more commercial air tour applications have been submitted unless that unit is exempt from this requirement.

As an alternative to an ATMP, the FAA and the NPS may enter into a voluntary agreement with a commercial air tour operator who has applied to conduct commercial air tour operations over a national park including an operator that has interim operating authority for the park or a new entrant commercial air tour operator. Voluntary agreements must address the management issues necessary to protect the resources and visitor use of the park without compromising aviation safety or the air traffic control system. A voluntary agreement may also include conditions for the conduct of air tour operations and provisions to ensure stability of and compliance with the voluntary agreement. Each voluntary agreement reflects the provisions and conditions appropriate for the national park to which the agreement applies.

The San Francisco Bay Area Parks ATMP was finalized on January 11, 2023. A subsequent lawsuit led to a court order that the ATMP be vacated (Marin Audubon Society v. Federal Aviation Administration, 121 F.4th 902 (D.C. Cir. 2024)), though the ATMP temporarily remains in place due to a stay of that order. Consequently, the agencies determined that development of a voluntary agreement is appropriate to comply with NPATMA before the end of the court's stay on February 28, 2026. Operators have agreed to engage in the voluntary agreement process.

Individual voluntary agreements will be established with each operator for the Park. Part 135 operators who have been granted interim operating authority for the Parks are included in this voluntary agreement and operators who have applied for authority to conduct tours of the Park are also included.

Written comments on the proposed voluntary agreement can be submitted via PEPC. Comments will not be accepted by fax, email, or any other way than as specified above. All written comments become part of the official record. Before including your address, phone number, email address, or other personal identifying information in your comment, you should be aware that your entire comment, including your personal identifying information, may be made publicly available at any time. While you can ask us in your comment to withhold your personal identifying information from public review, we cannot guarantee that we will be able to do so.

Dated: November 28, 2025.
Sandra Fox,
Environmental Protection Specialist.

[FR Doc. 2025-21744 Filed 12-1-25; 8:45 am]

BILLING CODE 4910-13-P